DEPARTMENT OF THE INTERIOR

Bureau of Indian Affairs

[2231A2100DD/AAKC001030/A0A501010.999900]

Indian Gaming; Approval of Tribal-State Class III Gaming Compact in the State of Wisconsin

AGENCY: Bureau of Indian Affairs, Interior.

ACTION: Notice.

SUMMARY: This notice publishes the approval of the 2022 Amendments to the Menominee Indian Tribe of Wisconsin and the State of Wisconsin Gaming Compact of 1992 (Amendment) providing for Class III gaming between the Menominee Indian Tribe (Tribe) and the State of Wisconsin (State).

DATES: The Amendment takes effect on September 30, 2022.

FOR FURTHER INFORMATION CONTACT: Ms. Paula L. Hart, Director, Office of Indian Gaming, Office of the Deputy Assistant Secretary—Policy and Economic Development, Washington, DC 20240, paula.hart@bia.gov, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Amendment permits the Tribe to engage in event wagering, including requiring minimum internal control standards and rules of play for event wagering. The Amendment makes technical amendments to update and correct various provisions of the compact. The Amendment is approved.

Bryan Newland,
Assistant Secretary—Indian Affairs.

[FR Doc. 2022-21607 Filed 10-4-22; 8:45 am]

BILLING CODE 4337-15-P